DEPARTMENT OF HEALTH AND HUMAN SERVICES

Food and Drug Administration

21 CFR Part 558

[Docket No. FDA-2013-N-0002]

New Animal Drugs for Use in Animal Feeds; Bambermycins; Correction

AGENCY: Food and Drug Administration, HHS.

ACTION: Final rule; correction.

SUMMARY: The Food and Drug Administration is correcting a document that appeared in the Federal Register of December 16, 2013 (78 FR 76059). The document amended the animal drug regulations to remove dairy replacement heifers from the pasture cattle class for which free-choice, loose-mineral medicated feeds containing bambermycins are approved. The document was published with an incorrect docket number. This document corrects that error.

DATES: Effective on December 16, 2013.

FOR FURTHER INFORMATION CONTACT: Joyce Strong, Office of Policy, Food and Drug Administration, 10903 New Hampshire Ave., Bldg. 32, Rm. 3208, Silver Spring, MD 20993-0002, 301-796-9148.

SUPPLEMENTARY INFORMATION: In the FR Doc. 2013-29810, appearing on page 76059 in the Federal Register of Monday, December 16, 2013 (78 FR 76059), the following correction is made:

1. On page 76059, in the third column, the docket number is corrected to read “FDA-2013-N-0002.”

Dated: December 24, 2013.
Bernadette Dunham,
Director, Center for Veterinary Medicine.

[FR Doc. 2013-31184 Filed 12-27-13; 8:45 am]

BILLING CODE 4160-01-P